DEPARTMENT OF ENERGY

[Docket No. EA-213-B]

Application To Export Electric Energy; Coral Power, L.L.C.

AGENCY: Office of Fossil Energy, DOE.

ACTION: Notice of applications.

SUMMARY: Coral Power, L.L.C. (Coral) has applied for renewal of its authority to transmit electric energy from the United States to Canada pursuant to section 202(e) of the Federal Power Act.

DATES: Comments, protests or requests to intervene must be submitted on or before April 29, 2004.

ADDRESSES: Comments, protests or requests to intervene should be addressed as follows: Office of Coal & Power Imports/Exports (FE-27), Office of Fossil Energy, U.S. Department of Energy, 1000 Independence Avenue, SW., Washington, DC 20585-0350 (FAX 202-287-5736).

FOR FURTHER INFORMATION CONTACT: Rosalind Carter (Program Office) 202-586-7983 or Michael Skinker (Program Attorney) 202-586-2793.

SUPPLEMENTARY INFORMATION: Exports of electricity from the United States to a foreign country are regulated and require authorization under section 202(e) of the Federal Power Act (FPA) (16 U.S.C. 824a(e)).

On August 11, 1999, FE issued Order No. EA-213 authorizing Coral to transmit electric energy from the United States to Canada using the international electric transmission facilities owned by Basin Electric Power Cooperative, Bonneville Power Authority, Citizens Utilities, Eastern Maine Electric Cooperative, International Transmission, Joint Owners of the Highgate Project, Long Sault, Inc., Maine Electric Power Company, Maine Public Service Company, Minnesota Power, Inc., Minnkota Power Cooperative, New York Power Authority, Niagara Mohawk Power Corporation, Northern States Power, Vermont Electric Transmission Company. That two-year authorization expired on August 11, 2001. On August 13, 2001, FE issued Order No. EA-213-A renewing Coral's export authorization. That authorization expired on August 13, 2003.

On March 13, 2004, Coral filed an application with FE for renewal of the export authority contained in Order No. EA-213-A. Coral has requested that any Order that may be issued in this proceeding be effective for a period of five years.

Procedural Matters: Any person desiring to become a party to this proceeding or to be heard by filing comments or protests to this application should file a petition to intervene, comment or protest at the address provided above in accordance with §§ 385.211 or 385.214 of the FERC's Rules of Practice and Procedures (18 CFR 385.211, 385.214). Fifteen copies of each petition and protest should be filed with the DOE on or before the date listed above.

Comments on the Coral application to export electric energy to Canada should be clearly marked with Docket EA-213-B. Additional copies are to be filed directly with Robert Reilley, Vice President, Regulatory Affairs, Coral Power, L.L.P., 909 Fannin, Suite 700, Houston, TX 77010.

A final decision will be made on this application after the environmental impacts have been evaluated pursuant to the National Environmental Policy Act of 1969, and a determination is made by the DOE that the proposed action will not adversely impact on the reliability of the U.S. electric power supply system.

Copies of this application will be made available, upon request, for public inspection and copying at the address provided above or by accessing the Fossil Energy home page at http://www.fe.doe.gov. Upon reaching the Fossil Energy home page, select “Electricity Regulation”, then “Pending Procedures” from the options menus.

Issued in Washington, DC, on March 25, 2004.
Anthony J. Como,
Deputy Director, Electric Power Regulation, Office of Coal & Power Imports/Exports, Office of Coal & Power Systems, Office of Fossil Energy.

[FR Doc. 04-7087 Filed 3-29-04; 8:45 am]

BILLING CODE 6450-01-P